DEPARTMENT OF JUSTICE

Notice of Lodging Consent Decree Pursuant to the Clean Air Act, the Comprehensive Environmental Response, Compensation and Liability Act, and the Emergency Planning and Community Right-To-Know Act

In accordance with 28 CFR 50.7, notice is hereby given that on April 21, 2008, a proposed consent decree in United States v. Holly Refining & Marketing Company, Case No. 1:08cv00041, was lodged with the United States District Court for the District of Utah. The proposed consent decree would resolve the United States' and State of Utah's claims against Holly Refining related to its refinery in Woods Cross, Utah, brought pursuant to section 113(b) of the CAA, 42 U.S.C. 7413(b); section 103(a) of the Comprehensive Environmental Response, Compensation and Liability Act, 42 U.S.C. 9603(a); and Section 304 of the Emergency Planning and Community Right-To-Know Act, 42 U.S.C. 11004 and under Utah State law. Under the terms of the consent decree, Holly will pay a civil penalty of $120,000 to the United States and the State of Utah, undertake a supplemental environmental project for the State of Utah valued at $130,000, and complete extensive injunctive relief.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Holly Refining & Marketing Company, Case No. 1:08cv00041, and Department of Justice Reference No. 90-5-2-1-2194/1.

During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number: (202) 514-0097, phone confirmation number: (202) 514-1547. In requesting a copy from the Consent Decree Library, please enclose a check in the amount of $35.25 (25 cents per page reproduction cost) payable to the “U.S. Treasury” or, if by e-mail or fax, forward a check in that amount to the Consent Decree Library at the stated address. A copy of the Consent Decree may be reviewed at the Office of the United States Attorney for the District of Utah, 185 South State Street, Suite 400, Salt Lake City, Utah 84111; telephone confirmation number: (801) 524-5682.

Robert D. Brook,
Assistant Chief, Environmental Enforcement Section, Environment and Natural Resources Division.

[FR Doc. E8-9127 Filed 4-25-08; 8:45 am]

BILLING CODE 4410-15-P